DEPARTMENT OF COMMERCE

Foreign-Trade Zones Board

[Docket 3-2007]

Review of Sourcing Change, Foreign-Trade Subzone 43D, Perrigo Company, Allegan, Michigan (Ibuprofen Products)

Pursuant to the regulations of the Foreign-Trade Zones (FTZ) Board (the Board), a review has been initiated (under 15 CFR Sec. 400.28(a)(3)(iii)(A)) of changes in sourcing related to certain ibuprofen products at Foreign-Trade Subzone 43D, at the manufacturing facilities of the Perrigo Company (Perrigo), in Allegan, Michigan, which produce a range of store-brand, over-the-counter (OTC) pharmaceutical products.

In May 2003, the Board filed an application from the City of Battle Creek, Michigan, grantee of FTZ 43, requesting special-purpose subzone status with certain manufacturing authority for Perrigo. The subzone application was approved by the Board on April 13, 2004 (Board Order 1326, 69 FR 21498, 4/21/04), including the manufacture under FTZ procedures of certain OTC pharmaceutical products containing ibuprofen, aspirin and acetaminophen. Specific to ibuprofen, Perrigo produces finished ibuprofen mixture and finished ibuprofen products (HTSUS headings 3003 and 3004, duty-free) using foreign-sourced active ingredient ibuprofen (HTSUS 2916.39.15, 6.5% duty rate). On products shipped to the U.S. market, the company is able to choose the duty rate during Customs entry procedures that applies to the finished ibuprofen mixture and products (duty-free) for the otherwise dutiable foreign active ingredient (6.5% duty rate) noted above (inverted tariff), as described in the application.

Perrigo has now notified the Board of additional sourcing of foreign active ingredient ibuprofen that it may manufacture into OTC ibuprofen products under zone procedures. In its original application, Perrigo had projected approximately $450,000 (90 percent of its total FTZ savings) in annual inverted tariff savings for its OTC ibuprofen, acetaminophen and aspirin production. Perrigo's sourcing-change submission now projects up to an additional $1.55 million in inverted tariff savings tied to the sourcing change for its OTC ibuprofen products.

In accordance with the Board's regulations, a member of the FTZ staff has been designated examiner to investigate the sourcing change, including its potential to cause “significant adverse effects” (15 CFR 400.28(a)(3)(iii)(A)), and report to the Board.

Public comment is invited from interested parties. Information submitted for the record generally should be in a non-proprietary format. If there is a need to submit business proprietary information, it should be appropriately marked and summarized or ranged (in the case of numerical data) in the public submission, which should be accompanied by a single business proprietary version.

Submissions (original and 3 copies) shall be addressed to the Board's Executive Secretary at the address below. The closing period for the receipt of the public comment submissions is May 10, 2007. Rebuttal comments in response to material submitted during the foregoing period may be submitted during the subsequent 15-day period through May 25, 2007.

A copy of the sourcing-change submission will be available for public inspection at the following location: Office of the Executive Secretary, Foreign-Trade Zones Board, Room 2814B, U.S. Department of Commerce, 1401 Constitution Avenue, NW, Washington, D.C. 20230-0002. For further information, contact Diane Finver at Diane_Finver@ita.doc.gov or (202) 482-1367.

Dated: March 5, 2007.
Andrew McGilvray,
Executive Secretary.

[FR Doc. E7-4284 Filed 3-8-07; 8:45 am]

BILLING CODE 3510-DS-S